DEPARTMENT OF COMMERCE

National Oceanic and Atmospheric Administration

[RTID 0648-XB302]

Draft 2021 Marine Mammal Stock Assessment Reports; Correction

AGENCY: National Marine Fisheries Service (NMFS), National Oceanic and Atmospheric Administration (NOAA), Commerce.

ACTION: Notice; correction.

SUMMARY: NMFS published a document in the Federal Register on October 25, 2021 requesting comments on the Draft 2021 Marine Mammal Stock Assessment Reports. The document contained incorrect link for submitting electronic comments.

DATES: Comments must be received by February 16, 2022.

FOR FURTHER INFORMATION CONTACT: Dr. Zachary Schakner, Office of Science and Technology, 301-427-8106, Zachary.Schakner@noaa.gov.

SUPPLEMENTARY INFORMATION:

Correction

In the Federal Register of October 25, 2021 (86 FR 58887), in FR Doc 2021-23225 on page 58887 in the second column, correct the ‘electronic submission’ directions to read:

You may submit comments or new information, identified by NOAA-NMFS-2022-0013, through the Federal e-Rulemaking Portal:

Electronic Submission: Submit all electronic public comments via the Federal e-Rulemaking Portal. Go to https://www.regulations.gov and enter NOAA-NMFS-2022-0013 in the Search box. Click on the “Comment” icon, complete the required fields, and enter or attach your comments.

Dated: January 27, 2022.
Evan Howell,
Director, Office of Science and Technology, National Marine Fisheries Service.

[FR Doc. 2022-02102 Filed 2-1-22; 8:45 am]

BILLING CODE 3510-22-P